DEPARTMENT OF HEALTH AND HUMAN SERVICES

Administration for Children and Families

Submission for OMB Review; Monitoring and Compliance for ORR Care Provider Facilities (0970-0564)

AGENCY: Office of Refugee Resettlement, Administration for Children and Families, Department of Health and Human Services.

ACTION: Request for public comment.

SUMMARY: The Office of Refugee Resettlement (ORR), Administration for Children and Families (ACF), U.S. Department of Health and Human Services (HHS), is proposing to continue to collect information that will allow the Unaccompanied Children (UC) Program to monitor its care provider facilities for compliance with federal and state laws and regulations, licensing and accreditation standards, ORR policies and procedures, and child welfare standards. These information collections were originally approved under emergency approval for 6 months. This request is to continue data collection.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: ORR received several comments on this information collection in response to the Federal Register Notice published on January 21, 2021, (86 FR 6340) and has provided responses to those comments in its final submission to OMB. UC Path is critical to program operations and it is important that rollout of the new system not be delayed. Therefore, the below description details what will be included in the initial launch of the UC Path case management system and revisions based on public comments will be made after initial launch. ORR plans to conduct a deliberative review of commenters' suggestions and concerns and submit a request for revisions to this information collection request in January 2022. The upcoming information collection request will also include revisions based on feedback from UC Path system users (i.e., ORR grantee, contractor, and federal staff).

The components of this information request include:

1. Corrective Action Report (Form M-1): This instrument is used by ORR Monitoring Team staff (includes federal and contractor staff), ORR Federal Field Specialists, and ORR Project Officers to document care provider non-compliance with minimum standards for the care and timely release of UC; federal and state laws and regulations; licensing standards; ORR policies and procedures; and child welfare standards. Care providers respond to each corrective action cited by ORR staff by entering a detail corrective action plan into the instrument and attaching any relevant supporting documents. Then, ORR staff document when each corrective action plan is completed to ORR's satisfaction and enter a final determination.

2. FFS Compliance and Safety Site Visit Report (Form M-3A): This instrument is used by ORR Federal Field Specialists to document site visit observations and interview responses.

3. Out-of-Network Site Visit Report (Form M-3B): This instrument is used by ORR Federal Field Specialists to document site visit observations and interview responses for out-of-network providers.

Checklists for a Child-Friendly Environment

These instruments are used by care providers on a voluntary basis to help ensure compliance with ORR policies and procedures related to maintaining a safe, child-friendly environment. ORR may also ask care providers to complete the checklist prior to a site visit.

4. Checklist for a Child-Friendly Environment—Care Provider Facility (Form M-4A)

5. Checklist for a Child-Friendly Environment—Individual Foster Home (Form M-4B)

Incident Reviews

These instruments are used by ORR care provider staff to provide information to ORR on allegations of sexual abuse or sexual harassment that occurred in ORR care that were investigated by local child protective services, state licensing, local law enforcement, the HHS Office of the Inspector General, and/or the Federal Bureau of Investigation. Care providers submit the instrument to ORR's Prevention of Sexual Abuse Team for review. Incident reviews help ensure that care providers have appropriate protective measures in place to prevent a similar incident from occurring again.

6. UC Incident Review (Form M-5A): This instrument is completed for allegations of sexual abuse or sexual harassment that occurred in ORR care between two children. Changed the full name of the form from “Sexual Abuse and Sexual Harassment UAC Incident Review” to “PSA UC Incident Review.”

7. Adult Incident Review (Form M-5B): This instrument is completed for allegations of sexual abuse, sexual harassment, or inappropriate sexual behavior that occurred in ORR care between a child and an adult. Changed the full name of the form from “Sexual Abuse and Sexual Harassment Adult Incident Review” to “PSA Adult Incident Review.”

Site Visit Guides

These instruments are completed by care provider staff as part of the pre-monitoring process for biennial site visits and provide ORR Monitoring Team staff with information and supporting documents related to the overall functioning and oversight of the care provider program. There are separate instruments tailored specifically for monitoring of long term foster care (LTFC) programs, home study and post-release service (HS/PRS) providers, and/or voluntary agencies (primary grantees for LTFC and transitional foster care sub-grantees).

12. Site Visit Guide (Form M-7A)

13. Remote Monitoring Site Visit Guide (Form M-7B)

14. Long Term Foster Care Site Visit Guide (Form M-7C)

15. Long Term Foster Care Remote Site Visit Guide (Form M-7D)

16. Home Study and Post-Release Services Site Visit Guide (Form M-7E)

17. Voluntary Agency Site Visit Guide (Form M-7F)

Personnel File Checklists

These instruments are completed by care provider staff and ORR Monitoring Team staff (includes federal and contractor staff) during biennial site visits to ensure that programs are meeting ORR policies and procedures related to the maintenance of personnel files. There are separate instruments tailored specifically for HS/PRS provider files and LTFC parent files.

25. Personnel File Checklist (Form M-10A)

26. Supplement to Personnel File Checklist (Form M-10B)

27. Home Study and Post-Release Services Personnel File Checklist (Form M-10C)

28. Long Term Foster Care Foster Parent Checklist (Form M-10D)

Program Staff Questionnaires

These instruments are used by ORR Monitoring Team staff (includes federal and contractor staff) during biennial site visits to interview and document responses from various care provider program staff.

29. Program Director Questionnaire (Form M-11A)

30. Long Term Foster Care Program Director Questionnaire (Form M-11B)

31. Clinician Questionnaire (Form M-11C)

32. Long Term Foster Care Clinician Questionnaire (Form M-11D)

33. Case Manager Questionnaire (Form M-11E)

34. Long Term Foster Care Case Manager Questionnaire (Form M-11F)

35. Education Staff Questionnaire (Form M-11G)

36. Long Term Foster Care Education Questionnaire (Form M-11H)

37. Medical Coordinator Questionnaire (Form M-11I)

38. Youth Care Worker Questionnaire (Form M-11J)

39. Prevention of Sexual Abuse Compliance Manager Staff Questionnaire (Form M-11K)

40. Secure Detention Officer Questionnaire (Form M-11L)

41. Long Term Foster Care Home Finder Questionnaire (Form M-11M)

42. Long Term Foster Care Independent Living Life Skills Staff Questionnaire (Form M-11N)

43. Long Term Foster Care Foster Parent Questionnaire (Form M-11O)

Child Questionnaires

These instruments are used by ORR Monitoring Team staff (includes federal and contractor staff) during biennial site visits to interview and document responses from UC.

44. UC Questionnaire—Ages 6-12 Years Old (Form M-12A)

45. UC Questionnaire—Ages 13 and Older (Form M-12B)

46. Long Term Foster Care Client Questionnaire (Form M-12C)

47. Secure Client Questionnaire (Form M-12D)

48. UC Questionnaire—Ages 5 and Under (Form M-12E)

Service Provider Questionnaires

These instruments are used by ORR Monitoring Team staff (includes federal and contractor staff) during biennial site visits to interview and document responses from various service providers.

49. Home Study and Post-Release Services Director Questionnaire (Form M-11A)

50. Home Study and Post-Release Services Caseworker Questionnaire (Form M-13B)

51. Legal Service Provider Questionnaire (Form M-13C)

52. Long Term Foster Care Legal Service Provider Questionnaire (Form M-13D)

53. Case Coordinator Questionnaire (Form M-13E)

Monitoring Visit Planning

These instruments are used by ORR Monitoring Team staff (includes federal and contractor staff) to plan and track biennial site visits for each fiscal year. These forms will be housed in ORR's new database, UC Path.

54. Monitoring Visit (Form M-14)

55. Monitoring Schedule (Form M-15)

Proposed revisions:

• Replace the term “unaccompanied alien child (UAC)” with “unaccompanied child (UC)” throughout the instruments in this collection. Note that the screenshots of UC Path instruments attached to this memo do not reflect this change because it has not yet been developed in the system. However, the revision in terminology will be made before the system is launched.

• UC Incident Review (Form M-5A)—Changed the full name of the form from “Sexual Abuse and Sexual Harassment UAC Incident Review” to “PSA UC Incident Review.”

• Adult Incident Review (Form M-5B)—Changed the full name of the form from “Sexual Abuse and Sexual Harassment Adult Incident Review” to “PSA Adult Incident Review.”

• UC Questionnaires (Forms M-12A, M-12B, and M-12E)—Add a new version of the questionnaire designed for children ages 5 and under. Translate all three versions of the questionnaire into Spanish.

• Secure Client Questionnaire (Form M-12D)—Reformat the form, update the directions, and re-phrased some of the questions so that they are in line with ORR's other child questionnaires (Forms M12-A to M-12C).

• Shelter Site Visit Guide (Form (Form M-7A)—Revised question 6 in the “Background Checks” section to request a background check list for all staff, not just staff hired within the past 2 years. The average burden minutes per response was increased from 12 hours to 13 hours for respondents and from 28 hours to 29 hours for federal and contractor monitors.

• Remove the following instruments from the information collection. These instruments will be completed by federal staff as part of their normal job duties and by less than 10 contractor staff. Therefore, they are no longer subject to PRA requirements.

○ Monitoring Notes (Form M-6A)

○ Remote Monitoring Notes (Form M-6B)

○ Long Term Foster Care Monitoring Notes (Form M-6C)

○ Long Term Foster Care Remote Monitoring Notes (Form M-6D)

○ UC Case File Checklist (Form M-8A)

○ Long Term Foster Care Case File Checklist (Form M-8B)

○ Home Study and Post-Release Services Case File Checklist (Form M-8C)

○ Secure and Staff Secure Addendum to Case File Checklist (Form M-8D)

○ On-Site Monitoring Checklist (Form M-9A)

○ Foster Home On-Site Monitoring Checklist (Form M-9B)

○ Post-Release Services Home Observation (Form M-9C)

Respondents: ORR grantee and contractor staff, foster parents, and UC.

Annual Burden Estimates

Estimated Burden Hours and Opportunity Costs for Respondents
Information collection title | Annual number of respondents | Annual number of responses per respondent | Average burden hours per response | Annual total burden hours
Corrective Action Report (Form M-1) | 216 | 0.5 | 5.00 | 540.00
FFS Compliance and Safety Site Visit Report (Form M-3A) | 216 | 12.0 | 1.00 | 2,592.00
Out-of-Network Site Visit Report (Form M-3B) | 24 | 5.0 | 1.00 | 120.00
Checklist for a Child-Friendly Environment (Form M-4) | 216 | 12.0 | 0.25 | 648.00
Incident Reviews (Forms M-5A to M-5B) | 216 | 0.3 | 1.50 | 97.20
Site Visit and Remote Monitoring Site Visit Guides (Forms M-7A to M-7B) | 93 | 1.0 | 13.00 | 1,209.00
LTFC Site Visit and LTFC Remote Monitoring Site Visit Guides (Forms M-7C to M-7D) | 15 | 1.0 | 6.00 | 90.00
HS/PRS Site Visit Guide (Form M-7E) | 30 | 1.0 | 6.00 | 180.00
Voluntary Agency Site Visit Guide (Form M-7F) | 5 | 1.0 | 8.00 | 40.00
Program Staff Questionnaires (Form M-11A-K) | 756 | 1.0 | 1.00 | 756.00
Secure Detention Officer Questionnaire (Form M-11L) | 1 | 1.0 | 1.00 | 1.00
Long Term Foster Care Home Finder Questionnaire (Form M-11M) | 15 | 1.0 | 1.00 | 15.00
Long Term Foster Care Independent Living Life Skills Staff Questionnaire (Form M-11N) | 15 | 1.0 | 1.00 | 15.00
Long Term Foster Care Foster Parent Questionnaire (Form M-11O) | 30 | 1.0 | 0.75 | 22.50
UC Questionnaires (Forms M-12A, M-12B, and M-12E) | 460 | 1.0 | 0.50 | 230.00
Long Term Foster Care Client Questionnaire (M-12C) | 75 | 1.0 | 0.50 | 37.50
Secure Client Questionnaire (Form M-12D) | 5 | 1.0 | 0.50 | 2.50
Home Study and Post-Release Services Director Questionnaire (Form M-13A) | 30 | 1.0 | 1.00 | 30.00
Home Study and Post-Release Services Caseworker Questionnaire (Form M-13B) | 90 | 1.0 | 1.00 | 90.00
Legal Service Provider Questionnaire (Form M-13C) | 93 | 1.0 | 1.00 | 93.00
Long Term Foster Care Legal Service Provider Questionnaire (Form M-13D) | 15 | 1.0 | 0.75 | 11.25
Case Coordinator Questionnaire (Form M-13E) | 108 | 1.0 | 1.00 | 108.00
Estimated Annual Burden Hours Total |  |  |  | 6,927.95

Estimated Burden Hours and Opportunity Costs for Contractor Monitors
Information collection title | Annual number of respondents | Annual number of responses per respondent | Average burden hours per response | Annual total burden hours
Corrective Action Report (Form M-1) | 4 | 25.0 | 22.00 | 2,200.00
Site Visit and Remote Monitoring Site Visit Guides (Forms M-7A to M-7B) | 4 | 7.0 | 29.00 | 812.00
LTFC Site Visit and LTFC Remote Monitoring Site Visit Guides (Forms M-7C to M-7D) | 4 | 1.0 | 21.00 | 84.00
HS/PRS Site Visit Guide (Form M-7E) | 4 | 2.0 | 21.00 | 168.00
Voluntary Agency Site Visit Guide (Form M-7F) | 4 | 0.4 | 28.00 | 44.80
Personnel File Checklist (Form M-10A) | 4 | 31.0 | 1.00 | 124.00
Supplement to Personnel File Checklist (Form M-10B) | 4 | 54.0 | 1.00 | 216.00
Home Study and Post-Release Services Personnel File Checklist (Form M-10C) | 4 | 6.0 | 1.00 | 24.00
Long Term Foster Care Foster Parent Checklist (Form M-10D) | 4 | 2.0 | 0.50 | 4.00
Program Staff Questionnaires (Form M-11A-K) | 4 | 54.0 | 1.00 | 216.00
Secure Detention Officer Questionnaire (Form M-11L) | 4 | 0.1 | 1.00 | 0.40
Long Term Foster Care Home Finder Questionnaire (Form M-11M) | 4 | 1.0 | 1.00 | 4.00
Long Term Foster Care Independent Living Life Skills Staff Questionnaire (Form M-11N) | 4 | 1.0 | 1.00 | 4.00
Long Term Foster Care Foster Parent Questionnaire (Form M-11O) | 4 | 2.0 | 0.75 | 6.00
UC Questionnaires (Forms M-12A, M-12B, and M-12E) | 4 | 33.0 | 0.50 | 66.00
Long Term Foster Care Client Questionnaire (M-12C) | 4 | 5.0 | 0.50 | 10.00
Secure Client Questionnaire (Form M-12D) | 4 | 0.4 | 0.50 | 0.80
Home Study and Post-Release Services Director Questionnaire (Form M-13A) | 4 | 2.0 | 0.50 | 4.00
Home Study and Post-Release Services Caseworker Questionnaire (Form M-13B) | 4 | 6.0 | 1.00 | 24.00
Legal Service Provider Questionnaire (Form M-13C) | 4 | 7.0 | 1.00 | 28.00
Long Term Foster Care Legal Service Provider Questionnaire (Form M-13D) | 4 | 1.0 | 0.75 | 3.00
Case Coordinator Questionnaire (Form M-13E) | 4 | 8.0 | 1.00 | 32.00
Monitoring Visit (Form M-14) | 4 | 8.0 | 0.50 | 16.00
Monitoring Schedule (Form M-15) | 4 | 0.3 | 0.33 | 0.40
Estimated Annual Burden Hours Total |  |  |  | 4,091.40

Authority: 6 U.S.C. 279; 8 U.S.C. 1232; Flores v. Reno Settlement Agreement, No. CV85-4544-RJK (C.D. Cal. 1996).

Mary B. Jones,
ACF/OPRE Certifying Officer.

[FR Doc. 2021-18660 Filed 8-30-21; 8:45 am]

BILLING CODE 4184-45-P